DEPARTMENT OF AGRICULTURE

Forest Service

Information Collection; Qualified Products List for Engine Driven Pumps

AGENCY: Forest Service, USDA.

ACTION: Notice; request for comment.

SUMMARY: In accordance with the Paperwork Reduction Act of 1995, the Forest Service is seeking comments from all interested individuals and organizations on the new information collection, Qualified Products List for Engine Driven Pumps.

DATES: Comments must be received in writing on or before March 21, 2011 to be assured of consideration. Comments received after that date will be considered to the extent practicable.

ADDRESSES: Comments concerning this notice should be addressed to Victoria (Tory) Henderson, Branch Director, Equipment and Chemicals, Forest Service, USDA, National Interagency Fire Center, 3833 S. Development Avenue, Boise, Idaho 83705. Comments also may be submitted via e-mail to: thenderson@fs.fed.us.

The public may inspect comments received at the National Interagency Fire Center (NIFC), Jack Wilson Building, Boise, ID during normal business hours. Visitors are encouraged to call ahead to 208-387-5512 to facilitate entry to the building.

FOR FURTHER INFORMATION CONTACT: Ralph Gonzales or Sam Wu, San Dimas Technology and Development Center, 909-599-1267. Individuals who use telecommunication devices for the deaf (TDD) may call the Federal Relay Service (FRS) at 1-800-877-8339 between 8 a.m. and 8 p.m., Eastern Standard time, Monday through Friday.

SUPPLEMENTARY INFORMATION: Title: Qualified Products List for Engine Driven Pumps.

OMB Number: 0596-New.

Expiration Date of Approval: Not applicable.

Type of Request: New.

Abstract: The Forest Service needs to have available adequate types and quantities of self-contained engine driven pumps to accomplish fire management activities safely, efficiently, and effectively. To accomplish this objective, the Agency needs to evaluate and pre-approve commercial pumps that meet three following categories: Engine Driven Pumps, Lightweight Portable Pumps, and Portable Floating Pumps.

Engine driven pumps are defined as portable pumps which consist of a gasoline engine, centrifugal or positive displacement pump, and engine controls which weigh between 60-400 lbs. Lightweight portable pumps are “back packable” positive displacement or centrifugal pumps that use a gasoline engine which weigh up to sixty pounds. Floating portable pumps are self-priming and float on the water during operation.

Products must meet specification standards identified and maintained by the Forest Service's San Dimas Technology and Development Center (SDTDC) staff. This staff evaluates and approves commercially available pumps prior to use in fire management activities on lands managed by the Forest Service, Federal, and State Cooperators. Employees of SDTDC consider the following requirements when determining product effectiveness for use by Forest Service employees and Federal cooperators:

1. Pump performance. These performance requirements include pump pressure and flow ranges, priming and drafting performance parameters, weight and sound levels.

2. Reliability and endurance requirements. These requirements include a 100-hour endurance test and evaluation of the properties of materials used in construction.

3. Quality and refurbishment standards. The construction and assembly processes are evaluated to ensure that the pumps are robust, field serviceable, and can be refurbished and reissued.

4. Compatibility and interchangeability requirements. The engine driven pumps must be compatible with standard wildland fire hoses and other water handling appliances. Threads, physical dimensions, and markings are inspected to assure proper interface controls.

To evaluate portable pump products, SDTDC must collect product specific information from manufacturers. This information includes a qualification sample or any special tools to operate the pump; certificate of conformance for the material composition and properties of materials used in the construction and assembly of the pump; and user's manuals.

The information collected is necessary to ensure pumps are properly evaluated to meet specific requirements related to safety, effectiveness, efficiency, and reliability of the product prior to use in the field. If this information is not collected and pumps are not evaluated on an on-going basis, wildland fire fighters lives could be placed in danger using untested portable pumps during live fire management activities.

Estimate of Annual Burden: 3 hours.

Type of Respondents: Businesses (Manufacturers of portable pumps).

Estimated Annual Number of Respondents: 5.

Estimated Annual Number of Responses per Respondent: 3.

Estimated Total Annual Burden on Respondents: 45 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: January 14, 2011.
Barbara L. Cooper,
Acting Deputy Associate Chief, Business Operations.

[FR Doc. 2011-1202 Filed 1-19-11; 8:45 am]

BILLING CODE 3410-11-P